DEPARTMENT OF ENERGY

Notice of Orders Issued Under Section 3 of the Natural Gas Act During December 2019

| FE Docket Nos.
REV LNG, LLC | 19-138-LNG
CITADEL ENERGY MARKETING LLC | 19-141-NG
MACQUARIE ENERGY LLC | 19-139-NG
PASO NORTE GAS EXPORT, LLC | 19-142-NG
SIERRA PACIFIC POWER COMPANY d/b/a NV ENERGY | 19-144-NG
UNIPER TRADING CANADA LTD | 19-145-NG
APPLIED LNG TECHNOLOGIES, LLC | 19-149-NG
COMMONWEALTH LNG, LLC | 12-152-LNG; 13-153-LNG
DIAMOND CAPITAL INTERNATIONAL, LLC | 19-140-NG
SUMAS DRY KILNS INC | 19-150-NG

AGENCY: Office of Fossil Energy, Department of Energy.

ACTION: Notice of orders.

SUMMARY: The Office of Fossil Energy (FE) of the Department of Energy gives notice that during December 2019, it issued orders granting authority to import and export natural gas, to import and export liquefied natural gas (LNG), and to vacate authorization. These orders are summarized in the attached appendix and may be found on the FE website at https://www.energy.gov/fe/listing-doefe-authorizationsorders-issued-2019.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Signed in Washington, DC, on February 9, 2020.
Amy Sweeney,
Director, Office of Regulation, Analysis, and Engagement, Office of Oil and Natural Gas.

Appendix—DOE/FE Orders
4471 | 12/19/19 | 19-138-LNG | Rev LNG, LLC | Order 4471 granting blanket authority to import/export LNG from/to Canada by truck.
4472 | 12/19/19 | 19-141-NG | Citadel Energy Marketing LLC | Order 4472 granting blanket authority to import/export natural gas from/to Canada/Mexico.
4473 | 12/19/19 | 19-139-NG | Macquarie Energy LLC | Order 4473 granting blanket authority to import/export natural gas from/to Canada/Mexico, to import/export LNG from/to Canada/Mexico by truck, and to import LNG from various international sources by vessel.
4474 | 12/19/19 | 19-142-NG | Paso Norte Gas Export, LLC | Order 4474 granting blanket authority to export natural gas to Mexico.
4475 | 12/19/19 | 19-144-NG | Sierra Pacific Power Company d/b/a NV Energy | Order 4475 granting blanket authority to import/export natural gas from/to Canada.
4476 | 12/19/19 | 19-145-NG | Uniper Trading Canada Ltd. | Order 4476 granting blanket authority to import/export natural gas from/to Canada.
4478 | 12/19/19 | 19-149-LNG | Applied LNG Technologies, LLC | Order 4478 granting blanket authority to import/export LNG from/to Canada/Mexico by truck.
3211-A | 12/19/19 | 12-152-LNG, 13-153-LNG | Commonwealth LNG, LLC | Order 3211-A vacating long-term multi-contract authorization to export LNG by vessel from the proposed Waller Point LNG Terminal, in Cameron Parish, Louisiana, to Free Trade Agreement Nations, and withdrawing pending Non-Free Trade Agreement Nations Application.
4479 | 12/20/19 | 19-140-NG | Diamond Capital International, LLC | Order 4479 granting blanket authority to import/export natural gas from/to Canada/Mexico, to import/export LNG from/to Canada/Mexico by truck, and to import LNG from various international sources by vessel.
4480 | 12/20/19 | 19-150-NG | Sumas Dry Kilns Inc. | Order 4480 granting blanket authority to import natural gas from Canada.

[FR Doc. 2020-03032 Filed 2-13-20; 8:45 am]

BILLING CODE 6450-01-P